DEPARTMENT OF HEALTH AND HUMAN SERVICES

National Institutes of Health

National Institute of Neurological Disorders and Stroke; Amended Notice of Meeting

Notice is hereby given of a change in the meeting of the National Institute of Neurological Disorders and Stroke Special Emphasis Panel, HEAL Initiative: Digital Biomarker, June 04, 2024, 10:00 a.m. to June 04, 2024, 06:00 p.m., National Institutes of Health, Neuroscience Center, 6001 Executive Boulevard, Rockville, MD, 20852 which was published in the Federal Register on May 13, 2024, FR Doc 2024-10379, 89 FR 41451.

This notice is being amended to change the meeting format from in-person to virtual. The date and time will remain the same. The meeting is closed to the public.

Dated: May 15, 2024.
Lauren A. Fleck,
Program Analyst, Office of Federal Advisory Committee Policy.

[FR Doc. 2024-11074 Filed 5-20-24; 8:45 am]

BILLING CODE 4140-01-P